DEPARTMENT OF THE TREASURY

Financial Crimes Enforcement Network; Privacy Act of 1974, as Amended; Systems of Records

AGENCY: FinCEN, Treasury.

ACTION: Notice of systems of records.

SUMMARY: In accordance with the requirements of the Privacy Act of 1974, as amended, 5 U.S.C. 552a, the Financial Crimes Enforcement Network (FinCEN), Treasury, is publishing its Privacy Act systems of records.

SUPPLEMENTARY INFORMATION: Pursuant to the Privacy Act of 1974 (5 U.S.C. 552a) and the Office of Management and Budget (OMB) Circular No. A-130, the FinCEN has completed a review of its Privacy Act systems of records notices to identify minor changes that will more accurately describe these records. FinCEN's Privacy Act system of records notices were last published in their entirety on February 19, 2002, at 67 FR 7492, 67 FR 7496, and 67 FR 7498, respectively.

Prior to October 26, 2001, the date of enactment of the Uniting and Strengthening America by Providing Appropriate Tools Required to Intercept and Obstruct Terrorism Act of 2001 (the “USA Patriot Act”), Pub. L. 107-56, FinCEN was placed within the Departmental Offices of the Department of the Treasury. Section 361 of the USA Patriot Act created a new Section 310 in Subchapter I of chapter 3 of Title 31, United States Code, making FinCEN a Treasury bureau. On November 25, 2003, FinCEN's three Privacy Act systems of records, previously identified as “DO .200 FinCEN Database,” “DO .212 Suspicious Activity Reporting System,” and “DO .213 Bank Secrecy Act Reports System,” have been re-numbered to reflect FinCEN's status as a Treasury Bureau (68 FR 66159).

Systems Covered by This Notice

This notice covers all systems of records adopted by the Bureau up to May 2, 2005. The systems notices are reprinted in their entirety following the Table of Contents.

Dated: August 1, 2005.
Nicholas Williams,
Deputy Assistant Secretary for Headquarters Operations.

Table of Contents

Financial Crimes Enforcement Network (FinCEN)

FinCEN .001-FinCEN Data Base (formerly Treasury/DO .200)

FinCEN .002-Suspicious Activity Report System (the SAR System) (formerly Treasury/DO .212)

FinCEN .003-Bank Secrecy Act Reports System (formerly Treasury/DO .213)

Treasury/FinCEN .001

System name:

FinCEN Data Base—Treasury/FinCEN

System location:

The Financial Crimes Enforcement Network, P. O. Box 39, Vienna, VA 22183-0039.

Categories of individuals covered by the system:

(1) Individuals who relate in any manner to official FinCEN efforts in support of the enforcement of the Bank Secrecy Act and money-laundering and other financial crimes. Such individuals may include, but are not limited to, subjects of investigations and prosecutions; suspects in investigations; victims of such crimes; witnesses in such investigations and prosecutions; and close relatives and associates of any of these individuals who may be relevant to an investigation; (2) current and former FinCEN personnel whom FinCEN considers relevant to an investigation or inquiry; and (3) individuals who are the subject of unsolicited information possibly relevant to violations of law or regulations, who offer unsolicited information relating to such violations, who request assistance from FinCEN, and who make inquiries of FinCEN.

Categories of records in the system:

Every possible type of information that contributes to effective law enforcement may be maintained in this system of records, including, but not limited to, subject files on individuals, corporations, and other legal entities; information provided pursuant to the Bank Secrecy Act; information gathered pursuant to search warrants; statements of witnesses; information relating to past queries of the FinCEN Data Base; criminal referral information; complaint information; identifying information regarding witnesses, relatives, and associates; investigative reports; and intelligence reports.

Authority for maintenance of the system:

5 U.S.C. 301, 31 U.S.C. 5311 et seq.; 31 CFR part 103; Treasury Department Order No. 105-08 (April 25, 1990).

Purpose(s):

The purpose of this system of records is to support FinCEN's efforts to provide a government-wide, multi-source intelligence and analytical network to support the detection, investigation, and prosecution of domestic and international money laundering and other financial crimes, and other domestic and international criminal, tax, and regulatory matters.

Routine uses of records maintained in the system including categories of users and the purposes of such uses:

Records in this system may be used to:

(1) Provide responses to queries from Federal, State, territorial, and local law enforcement and regulatory agencies, both foreign and domestic, regarding Bank Secrecy Act and other financial crime enforcement;

(2) Furnish information to other Federal, State, local, territorial, and foreign law enforcement and regulatory agencies responsible for investigating or prosecuting the violations of, or for enforcing or implementing a statute, rule, regulation, order, or license, where FinCEN becomes aware of an indication of a violation or potential violation of civil or criminal law or regulation;

(3) Furnish information to the Department of Defense, to support its role in the detection and monitoring of aerial and maritime transit of illegal drugs into the United States and any other role in support of law enforcement that the law may mandate;

(4) Respond to queries from INTERPOL in accordance with agreed coordination procedures between FinCEN and INTERPOL;

(5) Furnish information to individuals and organizations, in the course of enforcement efforts, to the extent necessary to elicit information pertinent to financial law enforcement;

(6) Furnish information to a court, magistrate, or administrative tribunal in the course of presenting evidence, including disclosures to opposing counsel or witnesses in the course of civil discovery, litigation, or settlement negotiations, in response to a subpoena, or in connection with civil or criminal law proceedings;

(7) Furnish information to the news media in accordance with the guidelines contained in 28 CFR 50.2, which relate to civil and criminal proceedings; and

(8) Furnish information to the Department of State and the Intelligence Community to further those agencies' efforts with respect to national security and the foreign aspects of international narcotics trafficking.

Policies and practices for storing, retrieving, accessing, retaining, and disposing of records in the system:

Storage:

Magnetic media and hard copy.

Retrievability:

By name, address, or unique identifying number.

Safeguards:

All FinCEN personnel accessing the system will have successfully passed a background investigation. FinCEN will furnish information from the system of records to approved personnel only on a “need to know” basis using passwords and access control. Procedural and physical safeguards to be utilized include the logging of all queries and periodic review of such query logs; compartmentalization of information to restrict access to authorized personnel; physical protection of sensitive hard copy information; encryption of electronic communications; intruder alarms; and 24-hour building guards.

Retention and disposal:

FinCEN personnel will review records each time a record is retrieved and on a periodic basis to see whether it should be retained or modified. FinCEN will dispose of all records after twenty years. Records will be disposed of by erasure of magnetic media and by shredding and/or burning of hard copy documents.

System manager(s) and addresses:

Deputy Director, Financial Crimes Enforcement Network, P.O. Box 39, Vienna, VA 22183-0039.

Notification procedure:

Pursuant to 5 U.S.C. 552a(j)(2), (k)(1), and (k)(2), this system of records may not be accessed for purposes of determining if the system contains a record pertaining to a particular individual.

Record Access procedures:

See “Notification procedure” above.

Contesting Record procedures:

See “Notification procedure” above.

Record source categories:

See “Categories of individuals covered by the system” above. The system contains material for which sources need not be reported.

Exemptions claimed for the system:

This system is exempt from 5 U.S.C. 552a(c)(3), (c)(4), (d)(1), (d)(2), (d)(3), (e)(1), (e)(2), (e)(3), (e)(4)(G), (H), and (I), (e)(5), (e)(8), (f), and (g) of the Privacy Act pursuant to 5 U.S.C. 552a(j)(2), (k)(1), and (k)(2). See 31 CFR 1.36.

TREASURY/FinCEN .002

System name:

Suspicious Activity Report System (the “SAR System”)—Treasury/FinCEN

System location:

The Internal Revenue Service Detroit Computing Center (DCC), 985 Michigan Avenue, Detroit, Michigan 48226-1129 and the Financial Crimes Enforcement Network (FinCEN), P.O. Box 39, Vienna, VA 22183-0039.

Categories of individuals covered by the system:

The SAR System contains information about:

(1) Individuals or entities that are known perpetrators or suspected perpetrators of a known or suspected federal criminal violation, or pattern of criminal violations, committed or attempted against a financial institution, or participants in a transaction or transactions conducted through the financial institution, that has been reported by the financial institution, either voluntarily or because such a report is required under the rules of FinCEN, one or more of the Federal Supervisory Agencies (the Board of Governors of the Federal Reserve System (the Board), the Office of the Comptroller of the Currency (OCC), the Federal Deposit Insurance Corporation (FDIC), the Office of Thrift Supervision (OTS), and the National Credit Union Administration (NCUA) (collectively, the “Federal Supervisory Agencies”)), or both.

(2) Individuals or entities that are participants in transactions, conducted or attempted by, at, or through a financial institution, that have been reported because the institution knows, suspects, or has reason to suspect that: (a) The transaction involves funds derived from illegal activities, the transaction is intended or conducted to hide or disguise funds or assets derived from illegal activities as part of a plan to violate or evade any law or regulation or to avoid any transaction reporting requirement under Federal law; (b) the transaction is designed to evade any regulations promulgated under the Bank Secrecy Act, Pub. L. 91-508, as amended, codified at 12 U.S.C. 1829b, 12 U.S.C. 1951-1959, and 31 U.S.C. 5311-5331; or (c) the transaction has no business or apparent lawful purpose or is not the sort in which the particular customer would normally be expected to engage, and the financial institution knows of no reasonable explanation for the transaction after examining the available facts, including the background and possible purpose of the transaction;

(3) Individuals who are directors, officers, employees, agents, or otherwise affiliated with a financial institution;

(4) Individuals or entities that are actual or potential victims of a criminal violation or series of violations;

(5) Individuals who are named as possible witnesses in connection with matters arising from any such report;

(6) Individuals or entities named as preparers of any such report;

(7) Individuals or entities named as persons to be contacted for assistance by government agencies in connection with any such report;

(8) Individuals or entities who have or might have information about individuals or criminal violations described above;

(9) Individuals or entities involved in evaluating or investigating any matters arising from any such report;

(10) Individuals, entities and organizations suspected of engaging in terrorist and other criminal activities and any person who may be affiliated with such individuals, entities or organizations;

(11) Individuals or entities named by financial institutions as persons to be contacted for further assistance by government agencies in connection with individuals, entities or organizations suspected of engaging in terrorist or other criminal activities; and

(12) Individuals or entities involved in evaluating or investigating any matters in connection with individuals, entities or organizations suspected of engaging in terrorist or other criminal activity.

Categories of records in the system:

The SAR System contains information reported to FinCEN by a financial institution (including, but not limited to, a depository institution, a money services business, a broker-dealer in securities, and a casino) on a Suspicious Activity Report (“SAR”) that is filed voluntarily or as required under the authority of FinCEN, one or more of the Federal Supervisory Agencies, or under any other authority. The SAR System also may contain information that may relate to terrorist or other criminal activity that is reported voluntarily to FinCEN by any individual or entity through any other means, including through FinCEN's Financial Institutions Hotline. The SAR System also may contain information relating to individuals, entities, and organizations reasonably suspected based on credible evidence of engaging in terrorist or other criminal activities, including information provided to FinCEN from financial institutions regarding such individuals, entities, and organizations. SARs contain information about the categories of persons or entities specified in “Categories of Individuals Covered by the system.” The SAR System may also contain records pertaining to criminal prosecutions, civil actions, enforcement proceedings, and investigations resulting from or relating to SARs. Additionally, it will contain records pertaining to criminal prosecutions, civil actions, enforcement proceedings, and investigations relating to institutions required to file reports or under the supervision of one or more of the Federal Supervisory agencies.

Authority for maintenance of the system:

The system is established and maintained in accordance with 31 U.S.C. 5318(g); 31 CFR Part 103; 31 U.S.C. 321; and 31 U.S.C. 310.

Purpose(s):

The requirements of FinCEN and the Federal Supervisory Agencies create an integrated process for reporting suspicious activity and known or suspected crimes by, at, or through depository institutions and certain of their affiliates. The process is based on a single uniform SAR filed with FinCEN.

The SAR System has been created, as a key part of this integrated reporting process, to permit coordinated and enhanced analysis and tracking of such information, and rapid dissemination of SAR information to appropriate law enforcement and supervisory agencies. The provisions of 31 U.S.C. 5318(g)(4)(B) specifically require that the agency designated as repository for SARs refer those reports to any appropriate law enforcement or supervisory agency.

Data from the SAR System will be exchanged, retrieved, and disseminated, both manually and electronically among FinCEN, the Federal Supervisory Agencies, appropriate Federal, State, and local law enforcement agencies, and State banking supervisory agencies. Agencies to which information will be referred electronically, which in certain cases may involve electronic transfers of batch information, include the Federal Supervisory Agencies, the Federal Bureau of Investigation (FBI), the Criminal Investigation Division of the Internal Revenue Service, the United States Secret Service, the United States Customs and Border Protection, the Executive Office of the United States Attorneys and the Offices of the 93 United States Attorneys, and State bank supervisory agencies and certain State law enforcement agencies, which have entered into appropriate agreements with FinCEN. (The FBI and Secret Service may receive electronic transfers of batch information as forms are filed to permit those agencies more efficiently to carry out their investigative responsibilities.) Organizations to which information is regularly disseminated are referred to as SAR System Users. It is anticipated that information from the SAR System will also be disseminated to other appropriate Federal, State, or local law enforcement organizations and regulatory agencies that enter into appropriate agreements with FinCEN. In addition, information may be disseminated to non-United States financial regulatory and law enforcement agencies.

Routine uses of records maintained in the system, Including Categories of Users and the Purposes of Such Uses:

These records may be used to:

(1) Provide information or records, electronically or manually, to SAR System Users relevant to the enforcement and supervisory programs and operations of those Users;

(2) Provide SAR System Users and their Executive Departments with reports that indicate the number, amount, individual identity, and other details concerning potential violations of the law that have been the subject of Suspicious Activity Reports;

(3) Provide information or records to any appropriate domestic or non-United States governmental agency or self-regulatory organization charged with the responsibility of administering law or investigating or prosecuting violations of law, or charged with the responsibility of enforcing or implementing a statute, rule, regulation, order, or policy, or charged with the responsibility of issuing a license, security clearance, contract, grant, or benefit, when relevant to the responsibilities of these agencies or organizations;

(4) Provide information or records, when appropriate, to international and foreign governmental authorities in accordance with law and formal or informal international agreement;

(5) Disclose on behalf of a SAR System User, the existence, but not necessarily the content, of information or records to a third party, in cases where a SAR System User is a party or has a direct interest and where the SAR System User has concluded that such disclosure is necessary;

(6) Provide information or records to the Department of Justice, or in a proceeding before a court, adjudicative body, or other administrative body before which the SAR System User is authorized to appear, when (a) the SAR System User, or any component thereof; or (b) any employee of the SAR System User in his or her official capacity; or (c) any employee of the SAR System User, where the Department of Justice or the SAR System User has agreed to represent the employee; or (d) the United States is a party to litigation or has an interest in such litigation, when the SAR System User determines that litigation is likely to affect the SAR System User or any of its components and the use of such records by the Department of Justice or the SAR System User is deemed by the SAR System User to be relevant and necessary to the litigation, provided, however, that in each case it has been determined that the disclosure is compatible with the purpose for which the records were collected;

(7) Disclose information or records to individuals or entities to the extent necessary to elicit information pertinent to the investigation, prosecution, or enforcement of civil or criminal statutes, rules, regulations, or orders;

(8) In accordance with Executive Order 12968 (August 2, 1995), provide information or records to any appropriate government authority in connection with investigations and reinvestigations to determine eligibility for access to classified information to the extent relevant for matters that are by statute permissible subjects of inquiry;

(9) Provide, when appropriate, information or records to a bar association, or other trade or professional organization performing similar functions, for possible disciplinary action;

(10) Provide information or records to the Department of State and to the United States Intelligence Community, within the meaning of Executive Order 12333 (December 4, 1981) to further those agencies' efforts with respect to national security and international narcotics trafficking;

(11) Furnish analytic and statistical reports to government agencies and the public providing information about trends and patterns derived from information contained on Suspicious Activity Reports, in a form in which individual identities are not revealed;

(12) Disclose information or records to any person with whom FinCEN, the DCC, or a SAR System User contracts to provide consulting, data processing, clerical, or secretarial functions relating to the official programs and operations of FinCEN, DCC, or the SAR System User; and

(13) Disclose information to United States intelligence agencies in the conduct of intelligence or counterintelligence activities, including analysis, to protect against international terrorism.

Policies and practices for storing, Retrieving, Accessing, Retaining, and Disposing of Records in the System:

Storage:

Records are maintained in magnetic media and on hard paper copy.

Retrievability:

Data in the SAR System may be retrieved by sectionalized data fields (i.e., name of financial institution or holding company, type of suspected violation, individual suspect name, witness name, and name of individual authorized to discuss the referral with government officials) or by the use of search and selection criteria.

Safeguards:

The system is located in a guarded building that has restricted access. Access to the computer facilities and any paper records is subject to additional physical safeguards that restrict access. Access to any electronic records in the system is restricted by means of passwords and non-transferable identifiers issued to authorized SAR System Users. The system complies with all applicable security requirements of the Department of the Treasury.

Retention and disposal:

Records in this system will be updated periodically to reflect changes, and will be maintained in electronic form as long as needed for the purpose for which the information was collected. Records will then be disposed of in accordance with applicable law.

System Manager and Address:

Deputy Director, Financial Crimes Enforcement Network, P.O. Box 39, Vienna, VA 22183-0039.

Notification procedure:

This system is exempt from notification requirements, record access requirements, and requirements that an individual be permitted to contest its contents, pursuant to the provisions of 5 U.S.C. 552a(j)(2) and (k)(2).

Record access procedures:

See “Notification procedure” above.

Contesting record procedures:

See “Notification procedure” above.

Record source categories:

Records in this system may be provided by or obtained from: individuals; financial institutions and certain of their affiliates; Federal Supervisory Agencies; State financial institution supervisory agencies; domestic or foreign governmental agencies; foreign or international organizations; and commercial sources. Pursuant to the provisions of 5 U.S.C. 552a(j)(2) and (k)(2), this system is exempt from the requirement that the Record source categories be disclosed.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 31 CFR 1.36.

TREASURY/FinCEN .003

System name:

Bank Secrecy Act Reports System—Treasury/FinCEN

System location:

Electronic Records: Currency and Banking Retrieval System, Internal Revenue Service Detroit Computing Center, 985 Michigan Avenue, Detroit, Michigan, 48226-1129 and Treasury Enforcement Communications System, United States Customs and Border Protection, Newington, 7681 Boston Boulevard, Springfield, Virginia, 22153-3140. Paper Records: FinCEN Form 105—U.S. Customs and Border Protection, Newington, VA. All other forms, including, but not limited to, FinCEN Form 104, TDF 90.22-1 and Form 8362—Internal Revenue Service, Detroit, MI.

Categories of individuals covered by the system:

Persons identified in reports filed under the Bank Secrecy Act and its implementing regulations (31 CFR part 103) including, but not limited to, reports made on FinCEN Form 104 (Currency Transaction Report), FinCEN Form 103 (Currency Transaction Report by Casinos), forms filed by casinos located in the State of Nevada in lieu of Form 8362, FinCEN Form 8300 (Report of Cash Payments Over $10,000 Received in a Trade or Business), FinCEN Form 105 (Report of International Transportation of Currency or Monetary Instruments), Treasury Form TDF 90-22.1 (Report of Foreign Bank and Financial Accounts), Treasury Form TDF 90-22.53 (Designation of Exempt Person), and FinCEN Form 107 (Registration of Money Services Businesses). (This system of records does not cover persons identified in Suspicious Activity Reports, TDF 90-22.47. Those reports are included in another system of records, “Suspicious Activity Reporting System—Treasury/FinCEN .002.”)

Categories of records in the system:

Information or reports filed under the Bank Secrecy Act and its implementing regulations (31 CFR part 103) including, but not limited to, reports made on FinCEN Form 104 (Currency Transaction Report), FinCEN Form 103 (Currency Transaction Report by Casinos), forms filed by casinos located in the State of Nevada in lieu of Form 8362, FinCEN Form 8300 (Report of Cash Payments Over $10,000 Received in a Trade or Business), FinCEN Form 105 (Report of International Transportation of Currency or Monetary Instruments), Treasury Form TDF 90-22.1 (Report of Foreign Bank and Financial Accounts), Treasury Form TDF 90-22.53 (Designation of Exempt Person), and FinCEN Form 107 (Registration of Money Services Businesses). (This system does not include Suspicious Activity Reports, TDF 90-22.47, required under 31 CFR part 103. Those reports are included in another system of records, “Suspicious Activity Reporting System—Treasury/FinCEN .002”). These reports include names of individuals and other entities filing the reports, names of the owners of monetary instruments, the amounts and kinds of currency or other monetary instruments transported, reported, or in foreign banking accounts, account numbers, addresses, dates of birth, and other personal identifiers.

Authority for maintenance of the system:

12 U.S.C. 1829b and 1951-1959; 31 U.S.C. 5311-5331; 5 U.S.C. 301; 31 CFR part 103; 31 U.S.C. 310.

Purpose(s):

The Bank Secrecy Act, codified at 12 U.S.C. 1829b and 1951-1959 and 31 U.S.C. 5311-5331 authorizes the Secretary of the Treasury to issue regulations requiring records and reports that are determined to have a high degree of usefulness in criminal, tax, and regulatory matters. The Secretary's authority has been implemented through regulations promulgated at 31 CFR part 103. The purpose of this system of records is to maintain the information contained on the reports required under these regulations. This information is disseminated, both electronically and manually, in accordance with strict safeguards, to appropriate Federal, State, local, and foreign criminal law enforcement and regulatory personnel in the official performance of their duties. The information is used in a wide range of criminal investigations, including, but not limited to, investigation of international and domestic money laundering, tax evasion, fraud, and other financial crimes, or in the conduct of intelligence or counterintelligence activities, including analysis, to protect against international terrorism.

Routine uses of records maintained in the system, Including Categories of Users and the Purpose of Such Uses:

These records may be used to:

(1) Disclose pertinent information to appropriate Federal, State, local, or foreign agencies responsible for investigating or prosecuting the violations of, or for enforcing or implementing, a statute, rule, regulation, order, or license, where the disclosing agency becomes aware of an indication of a violation or potential violation of civil or criminal law or regulation;

(2) Disclose information to Federal, State, or local agencies, maintaining civil, criminal, or other relevant information, which has requested information relevant to or necessary to the requesting agency's hiring or retention of an individual, or issuance of a security clearance, license, contract, grant, or other benefit;

(3) Disclose to appropriate Federal, State, or local agencies engaged in the identification, investigation, and prosecution of violations or potential violations of criminal statutes, information, in a computerized format, to identify or to permit the identification of patterns of suspected criminal activity that fall within the jurisdiction of the agency requesting the information;

(4) Provide information or records to any appropriate domestic or non-United States governmental agency or self-regulatory organization charged with the responsibility of administering law or investigating or prosecuting violations of law, or charged with the responsibility of enforcing or implementing a statute, rule, regulation, order, or policy, when relevant to the responsibilities of these agencies or organizations;

(5) Disclose relevant information on individuals to authorized Federal and State agencies through computer matching in order to help eliminate waste, fraud, and abuse in Government programs and identify individuals who are potentially in violation of civil law, criminal law, or regulation;

(6) Disclose information to a court, magistrate, or administrative tribunal in the course of presenting evidence, including disclosures to opposing counsel or witnesses in the course of civil discovery, litigation, or settlement negotiations, in response to a subpoena, or in connection with criminal law proceedings;

(7) Provide information to the news media, in accordance with guidelines contained in 28 CFR 50.2, that relates to an agency's functions relating to civil and criminal proceedings;

(8) Provide information to third parties during the course of an investigation to the extent necessary to obtain information pertinent to the investigation;

(9) Provide information or records to United States intelligence agencies in the conduct of intelligence or counterintelligence activities, including analysis, to protect against international terrorism; and

(10) Disclose to the public information about Money Services Businesses that have registered with FinCEN pursuant to 31 CFR 103.41, other than information that consists of trade secrets, or that is privileged and confidential commercial or financial information.

Policies and practices for storing, retrieving, accessing, retaining, and disposing of records in the system:

Storage:

Records are maintained in magnetic media and on hard paper copy.

Retrievability:

By name and other unique identifier.

Safeguards:

All persons with electronic access to records in the system will have successfully completed a background investigation. All State and local agency personnel, and all Federal personnel outside the U. S. Department of the Treasury with electronic access will have successfully completed appropriate training. Passwords and access controls will be utilized. Signed agreements outlining usage and dissemination rules are required of all non-Treasury agencies before electronic access is authorized. Procedural and physical safeguards include: The logging of all queries and periodic review of such query logs; compartmentalization of information to restrict access to authorized personnel; physical protection of sensitive hard copy documents and magnetic tapes; encryption of electronic communications; intruder alarms and other security devices; and 24-hour building guards. The system complies with all applicable security requirements of the Department of the Treasury.

Retention and disposal:

Records in this system will be updated periodically to reflect changes, and will be maintained in electronic form as long as needed for the purposes for which the information was collected. Records will be disposed of in accordance with applicable law.

System manager(s) and address:

General Policy: Deputy Director, Financial Crimes Enforcement Network, P.O. Box 39, Vienna, Virginia 22183-0039. Computer Systems Maintenance and Administration: Director, IRS Computing Center, 985 Michigan Avenue, Detroit, Michigan, 48226-1129 and Director, Office of Information Technology, U.S. Customs and Border Protection, Newington, 7681 Boston Boulevard, Springfield, Virginia, 22153-3140.

Notification procedure:

This system is exempt from notification requirements, record access requirements, and requirements that an individual be permitted to contest its contents, pursuant to the provisions of 5 U.S.C. 552a(j)(2) and (k)(2).

Record access procedures:

See “Notification procedure” above.

Contesting record procedures:

See “Notification procedure” above.

Record source categories:

Pursuant to the provisions of 5 U.S.C. 552a(j)(2) and (k)(2), this system is exempt from the requirement that the Record source categories be disclosed.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 31 CFR 1.36.

[FR Doc. 05-15598 Filed 8-5-05; 8:45 am]

BILLING CODE 4810-02-P